DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of September 16, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: July 28, 2015.
Roy E. Wright,
Deputy Associate Administrator for Insurance and Mitigation, Department of Homeland Security, Federal Emergency Management Agency.

I. Watershed-based studies:

Lower Levisa Watershed
Community | Community map repository address
Floyd County, Kentucky, and Incorporated Areas
Docket No.: FEMA-B-1433
City of Allen | City Hall, 22 Main Street, Allen, KY 41601.
City of Martin | City Hall, 11729 Main Street, Martin, KY 41649.
City of Prestonsburg | Municipal Building, 200 North Lake Drive, Prestonsburg, KY 41653.
City of Wayland | City Hall, 2643 King Kelly Coleman Highway, Wayland, KY 41666.
City of Wheelwright | City Hall, 1479 Kentucky Route 306, Wheelwright, KY 41669.
Unincorporated Areas of Floyd County | Courthouse Annex, 313 Westminister Street, Prestonsburg, KY 41653.
Johnson County, Kentucky, and Incorporated Areas
Docket No.: FEMA-B-1433
City of Paintsville | City Offices, 340 Main Street, Paintsville, KY 41240.
Unincorporated Areas of Johnson County | Johnson County Judge's Office, 908 3rd Street, Paintsville, KY 41240.
Knott County, Kentucky, and Incorporated Areas
Docket No.: FEMA-B-1433
City of Pippa Passes | Knott County Emergency Management, 40 Center Street, Hindman, KY 41822.
Unincorporated Areas of Knott County | Knott County Emergency Management, 40 Center Street, Hindman, KY 41822.
Lawrence County, KY, Kentucky Unincorporated Areas
Docket No.: FEMA-B-1433
City of Louisa | Louisa City Hall, 215 North Main Cross Street, Louisa, KY 41230.
Unincorporated Areas of Lawrence County | Lawrence County Judge's Office, 122 South Main Cross Street, 2nd Floor, Louisa, KY 41230.
Magoffin County, Kentucky, and Incorporated Areas
Docket No.: FEMA-B-1433
Unincorporated Areas of Magoffin County | Magoffin County Courthouse, Judges Office, 201 East Maple Street, Salyersville, KY 41465.
Morgan County, Kentucky, and Incorporated Areas
Docket No.: FEMA-B-1433
Unincorporated Areas of Morgan County | Morgan County Courthouse, 450 Prestonsburg Street, West Liberty, KY 41472.
Pike County, Kentucky, and Incorporated Areas
Docket No.: FEMA-B-1433
Unincorporated Areas of Pike County | Pike County Courthouse, 146 Main Street, Pikeville, KY 41501.

Tug Fork Watershed
Community | Community map repository address
Lawrence County, Kentucky Incorporated Areas
Docket No.: FEMA-B-1433
City of Louisa | Louisa City Hall, 215 North Main Cross Street, Louisa, KY 41230.
Unincorporated Areas of Lawrence County | Lawrence County Judge's Office, 122 South Main Cross Street, 2nd Floor, Louisa, KY 41230.
Martin County, Kentucky Incorporated Areas
Docket No.: FEMA-B-1433
City of Inez | Martin County Disaster Emergency Services, 100 Main Street, Inez, KY 41224.
Town of Warfield | Martin County Disaster Emergency Services, 100 Main Street, Inez, KY 41224.
Unincorporated Areas of Martin County | Martin County Disaster Emergency Services, 100 Main Street, Inez, KY 41224.
Pike County, Kentucky, and Incorporated Areas
Docket No.: FEMA-B-1433
Unincorporated Areas of Pike County | Pike County Courthouse, 146 Main Street, Pikeville, KY 41501.

II. Non-watershed-based studies:

Community | Community map repository address
Kings County, California, and Incorporated Areas
Docket No.: FEMA-B-1440
City of Lemoore | Planning Department, 711 West Cinnamon Drive, Lemoore, CA 93245.
Unincorporated Areas of Kings County | Community Development Agency, 1400 West Lacey Boulevard, Building 6, Hanford, CA 93230.
Rock County, Wisconsin, and Incorporated Areas
Docket No.: FEMA-B-1356
City of Beloit | City Hall, 100 State Street, Beloit, WI 53511.
City of Brodhead | City Hall, 1111 West 2nd Avenue, Brodhead, WI 53520.
City of Edgerton | City Hall, 12 Albion Street, Edgerton, WI 53534.
City of Evansville | City Hall, 31 South Madison Street, Evansville, WI 53536.
City of Janesville | City Hall, 18 North Jackson Street, Janesville, WI 53545.
City of Milton | City Hall, 430 East High Street, Milton, WI 53563.
Unincorporated Areas of Rock County | Rock County Courthouse, 51 South Main Street, Janesville, WI 53545.
Village of Clinton | Village Hall, 301 Cross Street, Clinton, WI 53525.
Village of Footville | Village Hall, 156 Depot Street, Footville, WI 53537.
Teton County, Wyoming, and Incorporated Areas
Docket No.: FEMA-B-1427
Unincorporated Areas of Teton County | Teton County Engineering Office, 320 South King Street, Jackson, WY 83001.

[FR Doc. 2015-20447 Filed 8-18-15; 8:45 am]

BILLING CODE 9110-12-P